DEPARTMENT OF TRANSPORTATION

Federal Highway Administration

Notice of Intent To Prepare a Supplemental Environmental Impact Statement: State Route 374 From State Route 149 West of River Road to State Route 76 in Clarksville, Montgomery County, TN

AGENCY: Federal Highway Administration (FHWA), DOT.

ACTION: Notice of Intent to Prepare a Supplemental Environmental Impact Statement (EIS).

SUMMARY: The FHWA is issuing this notice to advise the public that a Supplemental EIS will be prepared for the extension of SR 374 from SR 149 west of River Road to SR 76 in Clarksville, Montgomery County, Tennessee.

FOR FURTHER INFORMATION CONTACT: Mr. Charles J. O'Neill, Planning and Program Management Team Leader, FHWA—Tennessee Division Office, 404 BNA Drive, Suite 508, Nashville, TN 37217. Phone: (615) 781-5770.

SUPPLEMENTARY INFORMATION: The FHWA, in cooperation with the Tennessee Department of Transportation, will prepare a Supplemental EIS on a proposal to extend SR 374 in Clarksville, Montgomery County, Tennessee. A Draft EIS for the extension of SR 374 from SR 13 to SR 76 in Clarksville was approved in March 2000. On December 17, 2008, the FHWA issued a Notice to Rescind the original Notice of Intent to Prepare an EIS (published November 12, 1996) for the subject project. The original Notice of Intent was rescinded due to the age of the Draft EIS and the desire to assess any potential changes in impacts to the human and natural environment. A Supplemental Draft EIS must be prepared to update the technical studies to be in full compliance with NEPA and other current environmental regulations, including SAFETEA-LU.

The Supplemental Draft EIS will evaluate the extension of SR 374 from SR 149 west of River Road to SR 76, a distance of approximately 7 miles. The proposed roadway will provide two traffic lanes in each direction, separated by either a median or a turn lane. The project will involve construction on new location, as well as improvements to existing facilities. Once constructed, it is expected that the facility will help divert traffic away from congested roadways leading to and from downtown Clarksville.

The Supplemental EIS will evaluate a range of reasonable alternatives, which will include: (1) No Build; (2) Transit; (3) Transportation Systems Management; and (4) one or more Build Alternatives.

Early coordination letters describing the proposed action and soliciting comments will be sent to appropriate Federal, State, and local agencies, and to private organizations and entities that have previously expressed or are known to have an interest in this proposal. A Coordination Plan will be developed to include the public in the project development process. This plan will utilize the following outreach efforts to provide information and solicit input: Newsletters, project Web site, e-mail and direct mail, informational meetings and briefings, a public hearing, and other efforts as necessary and appropriate. A public hearing will be held upon completion of the Supplemental Draft EIS, and public notice will be given of the time and place of the public hearing. The Supplemental Draft EIS will be available for public and agency review and comment prior to the public hearing.

To ensure that the full range of issues related to this proposed action are addressed and all significant issues identified, comments and suggestions are invited from all interested parties. Comments or questions concerning the proposed action and the EIS should be directed to the FHWA contact person identified above at the address provided above.

(Catalog of Federal Domestic Assistance Program Number 20.205, Highway Planning and Construction. The regulations implementing Executive Order 12372 regarding intergovernmental consultation on Federal programs and activities apply to this proposed program.)

Charles J. O'Neill,
Planning and Program Management Team Leader, Nashville, TN.

[FR Doc. 2010-8721 Filed 4-20-10; 8:45 am]

BILLING CODE 4910-22-P